DEPARTMENT OF HOUSING AND URBAN DEVELOPMENT

[Docket No. FR-5122-N-01]

Notice of Proposed Information Collection: Comment Request; Evaluation of Lead-Based Paint Hazard Reduction Grantee Unit Costs

AGENCY: Office of Healthy Homes and Lead Hazard Control, HUD.

ACTION: Notice.

SUMMARY: The proposed information collection requirement described below will be submitted to the Office of Management and Budget (OMB) for review, as required by the Paperwork Reduction Act. The Department is soliciting public comments on the subject proposal.

DATES: Comments Due Date: April 16, 2007.

ADDRESSES: Interested persons are invited to submit comments regarding this proposal. Comments should refer to the proposal by and/or OMB Control Number and should be sent to: Lillian Deitzer, QDAM, Reports Management Officer, Department of Housing and Urban Development, 451 7th Street, SW., Room 4178, Washington, DC 20410 or Lillian_Deitzer@hud.gov.

FOR FURTHER INFORMATION CONTACT: Robert F. Weisberg, LM, Program Management and Assurance Division, Office of Healthy Homes & Lead Hazard Control, Department of Housing and Urban Development, 451 Seventh Street, SW., Room 8236, Washington, DC 20410; e-mail Robert_F._Weisberg@hud.gov, telephone (202) 402-7687 (this is not toll-free number) for other available information. If you are a hearing- or speech-impaired person, you may reach the above telephone numbers through TTY by calling the toll-free Federal Information Relay Service at 1-800-877-8339.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Evaluation of Lead-Based Paint Hazard Reduction Grantee Unit Costs.

OMB Control Number, if applicable: New.

Description of the need for the information and proposed use: Evaluation of Lead-Based Paint Hazard Reduction Grantee Unit Costs to use as baseline for planning and evaluation.

Agency form numbers, if applicable: None.

Estimation of the total number of hours needed to prepare the information collection including number of respondents, frequency of response, and hours of response: An estimation of the total number of hours needed to prepare the information collection is 840, number of respondents is 35, frequency of response is “once,” and the hours per response is 24.

Status of the proposed information collection: This is a review of records required to be retained under grant agreements.

Authority: The Paperwork Reduction Act of 1995, 44 U.S.C. Chapter 35, as amended.

Dated: February 7, 2007.
Warren Friedman,
Deputy Director, Office of Healthy Homes and Lead Hazard Control.

[FR Doc. 07-679 Filed 2-13-07; 8:45 am]

BILLING CODE 4210-67-M